DEPARTMENT OF COMMERCE

[Docket No.: 110121055-1055-01]

Public Availability of Department of Commerce FY 2010 Service Contract Inventory

AGENCY: Department of Commerce.

ACTION: Notice of Public Availability of FY 2010 Service Contract Inventories.

SUMMARY: In accordance with Section 743 of Division C of the Consolidated Appropriations Act of 2010 (Pub. L. 111-117), Department of Commerce is publishing this notice to advise the public of the availability of the FY 2010 Service Contract inventory. This inventory provides information on service contract actions over $25,000 that were made in FY 2010. The information is organized by function to show how contracted resources are distributed throughout the agency. The inventory has been developed in accordance with guidance issued on November 5, 2010 by the Office of Management and Budget's Office of Federal Procurement Policy (OFPP). OFPP's guidance is available at http://www.whitehouse.gov/sites/default/files/omb/procurement/memo/service-contract-inventories-guidance-11052010.pdf. Department of Commerce has posted its inventory and a summary of the inventory on the Office of Acquisition Management homepage at the following link http://oam.eas.commerce.gov.

FOR FURTHER INFORMATION CONTACT: Questions regarding the service contract inventory should be directed to Virna Evans, Director for Acquisition Workforce and Policy Division at 202-482-4248 or vevans@doc.gov.

Dated: January 21, 2011.
Scott Quehl,
Assistant Secretary for Administration, Department of Commerce.

[FR Doc. 2011-2135 Filed 1-31-11; 8:45 am]

BILLING CODE P